Title 3—

The President

Proclamation 9119 of May 8, 2014

Military Spouse Appreciation Day, 2014

By the President of the United States of America

A Proclamation

Our military spouses embody ideals we cherish: strength, loyalty, and commitment. They stand beside those who stand behind our flag, giving their all and making tremendous sacrifices. They shoulder the burdens of countless moves and stressful deployments, and they uphold their end of the bargain. On Military Spouse Appreciation Day, we celebrate the force behind the force and show these homefront heroes the full support of a grateful Nation.

My Administration is working to fulfill our sacred obligation to our veterans, service members, their spouses, and their families. We are helping military families avoid foreclosure and predatory lending, and we are investing in their education. We are easing burdens by supporting childcare and assisting with career training. And because our men and women in uniform and their spouses are partners not only in love, but also in law, we are doing everything we can to ensure all married couples receive the benefits they deserve—regardless of their sexual orientation.

Through the Joining Forces initiative, First Lady Michelle Obama and Dr. Jill Biden are expanding employment opportunities for veterans, transitioning service members, and their spouses while advocating for new legislation to bolster professional development services. And they are forging stronger connections between military and civilian families and engaging us all in the push to give military families the opportunities, resources, and support they have earned—not only today, but every day. To learn more and get involved, visit www.JoiningForces.gov.

As service members board planes for deployments to foreign lands, they need to know their country will be there for their loved ones. As mothers and fathers take on the work of two, they need to know their neighbors will lend a hand. And if called to make the ultimate sacrifice, troops must know their Nation will honor their memory and care for their family. After everything military spouses have done for America, for one another, for our wounded warriors and the families of the fallen, we must stand beside them. We must make good on our debt of gratitude. May each of us serve our military spouses and their families as well as they serve us.

NOW, THEREFORE, I, BARACK OBAMA, President of the United States of America, by virtue of the authority vested in me by the Constitution and the laws of the United States, do hereby proclaim May 9, 2014, as Military Spouse Appreciation Day. I call upon the people of the United States to honor military spouses with appropriate ceremonies and activities.

IN WITNESS WHEREOF, I have hereunto set my hand this eighth day of May, in the year of our Lord two thousand fourteen, and of the Independence of the United States of America the two hundred and thirty-eighth.

[FR Doc. 2014-11167

Filed 5-12-14; 11:15 am]

Billing code 3295-F4